OFFICE OF PERSONNEL MANAGEMENT

5 CFR Part 532

[Docket ID: OPM-2024-0012]

RIN 3206-AO70

Prevailing Rate Systems; Abolishment of Calhoun, Alabama, as a Nonappropriated Fund Federal Wage System Wage Area

AGENCY: Office of Personnel Management.

ACTION: Proposed rule.

SUMMARY: The Office of Personnel Management (OPM) is proposing a rule to abolish the Calhoun, Alabama (AL), nonappropriated fund (NAF) Federal Wage System (FWS) wage area and define Calhoun County, AL, to the Cobb, Georgia, NAF FWS wage area, and Jefferson County, AL, to the Madison, AL, NAF FWS wage area. These changes are necessary because NAF FWS employment in the survey area is now below the minimum criterion of 26 wage employees to maintain a wage area, and the local activities no longer have the capability to conduct local wage surveys.

DATES: Send comments on or before July 1, 2024.

ADDRESSES: You may submit comments, identified by docket number and/or Regulatory Information Number (RIN) and title, by the following method:

• Federal Rulemaking Portal: https://www.regulations.gov. Follow the instructions for submitting comments.

All comments received must include the agency name and docket number or RIN for this document. The general policy for comments from members of the public is to make them available for public viewing at https://www.regulations.gov without change, including any personal identifiers or contact information. However, OPM retains discretion to redact personal or sensitive information from comments before they are posted.

FOR FURTHER INFORMATION CONTACT: Ana Paunoiu, by telephone at (202) 606-2858 or by email at paypolicy@opm.gov.

SUPPLEMENTARY INFORMATION: Under 5 CFR 532.219, OPM may establish a NAF wage area when there are a minimum of 26 NAF wage employees in the survey area, a local activity has the capability to host annual local wage surveys, and the survey area has at least 1,800 private enterprise employees in establishments within survey specifications. The Calhoun, AL, NAF FWS wage area is presently composed of one survey county, Calhoun County, AL, and one area of application county: Jefferson County, AL. The Department of Defense (DOD) notified OPM that there has been a continuing decline of NAF FWS employment in the survey area and the local activities no longer have the capability to conduct local wage surveys. Currently, 15 DOD NAF FWS employees work in Calhoun County.

Since Jefferson County, AL, will have continuing NAF employment and does not meet the regulatory criteria under 5 CFR 532.219 to be a separate survey area, it must be defined as an area of application to another wage area. Section 532.219 lists the regulatory criteria OPM considers when defining FWS wage area boundaries. This rulemaking allows consideration of the following criteria: proximity of largest activity in each county, transportation facilities and commuting patterns, and similarities of the counties in overall population, private employment in major industry categories, and kinds and sizes of private industrial establishments.

In selecting a wage area to which Calhoun County, AL, should be redefined, proximity favors the Cobb, GA, NAF wage area. All other criteria are indeterminate. Based on these findings, OPM is defining Calhoun County as an area of application to the Cobb NAF wage area.

In selecting a wage area to which Jefferson County, AL, should be redefined, proximity favors the Madison, AL, NAF wage area. All other criteria are indeterminate. Based on these findings, OPM is defining Jefferson County as an area of application to the Madison NAF wage area.

The Cobb, GA, wage area would consist of one survey county (Cobb County, GA), and 4 area of application counties (Calhoun County, AL; and Bartow, De Kalb, and Fulton Counties, GA).

The Madison, AL, wage area would consist of one survey county (Madison, AL) and 5 area of application counties (Coffee, Davidson, Hamilton, Jefferson, and Rutherford Counties, AL).

The Federal Prevailing Rate Advisory Committee, the national labor-management committee responsible for advising OPM on matters concerning the pay of FWS employees, recommended these changes by consensus. These changes would be effective on the first day of the first applicable pay period beginning on or after 30 days following publication of the final regulations.

Expected Impact of This Rule

Section 5343 of title 5, U.S. Code, provides OPM with the authority and responsibility to define the boundaries of NAF FWS wage areas. Any changes in wage area definitions can have the long-term effect of increasing pay for Federal employees in affected locations. OPM expects this rulemaking to impact approximately 21 NAF FWS employees. Considering the small number of employees affected, OPM does not anticipate that this proposed rule will substantially impact local economies or have a large impact in local labor markets. However, OPM is requesting comment in this rulemaking regarding the impact. As this and future wage area changes may impact higher volumes of employees in geographical areas and could rise to the level of impacting local labor markets, OPM will continue to study the implications of such impacts in this or future rules as needed.

Regulatory Review

OPM has examined the impact of this rulemaking as required by Executive Orders 12866, 13563, and 14094, which direct agencies to assess all costs and benefits of available regulatory alternatives and, if regulation is necessary, to select regulatory approaches that maximize net benefits (including potential economic, environmental, public health and safety effects, distributive impacts, and equity). OMB has determined that this rulemaking is not a “significant regulatory action” under section 3(f) of Executive Order 12866, as amended by Executive Order 14094.

Regulatory Flexibility Act

The Director of OPM certifies that this rulemaking will not have a significant economic impact on a substantial number of small entities.

Federalism

OPM has examined this rulemaking in accordance with Executive Order 13132, Federalism, and has determined that this rule will not have any negative impact on the rights, roles and responsibilities of State, local, or tribal governments.

Civil Justice Reform

This rulemaking meets the applicable standard set forth in Executive Order 12988.

Unfunded Mandates Act of 1995

This rulemaking will not result in the expenditure by State, local, and tribal governments, in the aggregate, or by the private sector, of $100 million or more in any year and it will not significantly or uniquely affect small governments. Therefore, no actions were deemed necessary under the provisions of the Unfunded Mandates Reform Act of 1995.

Paperwork Reduction Act

This rulemaking does not impose any reporting or record-keeping requirements subject to the Paperwork Reduction Act.

List of Subjects in 5 CFR Part 532

Administrative practice and procedure, Freedom of information, Government employees, Reporting and recordkeeping requirements, Wages.

Office Of Personnel Management.
Kayyonne Marston,
Federal Register Liaison.

Accordingly, OPM is proposing to amend 5 CFR part 532 as follows:

PART 532—PREVAILING RATE SYSTEMS

1. The authority citation for part 532 continues to read as follows:

Authority: 5 U.S.C. 5343, 5346; § 532.707 also issued under 5 U.S.C. 552.

2. In Appendix D to subpart B, amend the table by revising the wage area listing for the States of Alabama and Georgia to read as follows:

Appendix D to Subpart B of Part 532—Nonappropriated Fund Wage and Survey Areas

Definitions of Wage Areas and Wage Area Survey Areas
* * * * *
ALABAMA
Madison
Survey Area
Alabama:
Madison
Area of Application. Survey area plus:
Alabama:
Jefferson
Tennessee:
Coffee
Davidson
Hamilton
Rutherford
Montgomery
Survey Area
Alabama:
Montgomery
Area of Application. Survey area plus:
Alabama:
Dale
Dallas
Macon
* * * * *
GEORGIA
Chatham
Survey Area
Georgia:
Chatham
Area of Application. Survey area plus:
Georgia:
Glynn
Liberty
South Carolina:
Beaufort
Cobb
Survey Area
Georgia:
Cobb
Area of Application. Survey area plus:
Alabama:
Calhoun
Georgia:
Bartow
De Kalb
Fulton
Columbus
Survey Area
Georgia:
Columbus
Area of Application. Survey area plus:
Georgia:
Chattahoochee
Dougherty
Survey Area
Georgia:
Dougherty
Area of Application. Survey area.
Houston
Survey Area
Georgia:
Houston
Area of Application. Survey area plus:
Georgia:
Laurens
Lowndes
Survey Area
Georgia:
Lowndes
Area of Application. Survey area plus:
Florida:
Leon
Richmond
Survey Area
Georgia:
Richmond
Area of Application. Survey area plus:
South Carolina:
Aiken
* * * * *

[FR Doc. 2024-11826 Filed 5-29-24; 8:45 am]

BILLING CODE 6325-39-P